DEPARTMENT OF ENERGY

Federal Energy Regulatory Commission

Combined Notice of Filings #1

Take notice that the Commission received the following exempt wholesale generator filings:

Docket Numbers: EG23-50-000.

Applicants: Carson Hybrid Energy Center LLC.

Description: Carson Hybrid Energy Center LLC submits Notice of Self-Certification of Exempt Wholesale Generator Status.

Filed Date: 12/30/22.

Accession Number: 20221230-5143.

Comment Date: 5 p.m. ET 1/20/23.

Docket Numbers: EG23-51-000.

Applicants: Enery Holdings LLC.

Description: Enery Holdings LLC submits Notice of Self-Certification of Exempt Wholesale Generator Status.

Filed Date: 12/30/22.

Accession Number: 20221230-5144.

Comment Date: 5 p.m. ET 1/20/23.

Take notice that the Commission received the following electric rate filings:

Docket Numbers: ER11-1933-008.

Applicants: Green Mountain Power Corporation.

Description: Triennial Market Power Analysis for Northeast Region of Green Mountain Power Corporation.

Filed Date: 12/30/22.

Accession Number: 20221230-5127.

Comment Date: 5 p.m. ET 2/28/23.

Docket Numbers: ER14-225-008.

Applicants: New Brunswick Energy Marketing Corporation.

Description: Notice of Change in Status of New Brunswick Energy Marketing Corporation.

Filed Date: 12/30/22.

Accession Number: 20221230-5130.

Comment Date: 5 p.m. ET 1/20/23.

Docket Numbers: ER23-750-000.

Applicants: Consolidated Edison Company of New York, Inc.

Description: § 205(d) Rate Filing: Managed Charging Program Costs Adjustment 12-29-2022 to be effective 1/1/2023.

Filed Date: 12/30/22.

Accession Number: 20221230-5000.

Comment Date: 5 p.m. ET 1/20/23.

Docket Numbers: ER23-751-000.

Applicants: AEP Indiana Michigan Transmission Company, Inc.

Description: Baseline eTariff Filing: AEP I&M Transmission Company, Inc. Service Agreements Tariff—Baseline to be effective 12/30/2022.

Filed Date: 12/30/22.

Accession Number: 20221230-5001.

Comment Date: 5 p.m. ET 1/20/23.

Docket Numbers: ER23-752-000.

Applicants: AEP Indiana Michigan Transmission Company, Inc.

Description: § 205(d) Rate Filing: AIMTC-Bellflower Solar 1 (Shankatank Station) Maintenance Agreement to be effective 12/30/2022.

Filed Date: 12/30/22.

Accession Number: 20221230-5002.

Comment Date: 5 p.m. ET 1/20/23.

Docket Numbers: ER23-753-000.

Applicants: PacifiCorp.

Description: § 205(d) Rate Filing: UAMPS Const Agmt Hyrum City BTM Resource Modeling to be effective 3/1/2023.

Filed Date: 12/30/22.

Accession Number: 20221230-5063.

Comment Date: 5 p.m. ET 1/20/23.

Docket Numbers: ER23-754-000.

Applicants: PacifiCorp.

Description: § 205(d) Rate Filing: Revisions to Generator Interconnection Procedures Regarding Electric Storage Res to be effective 3/1/2023.

Filed Date: 12/30/22.

Accession Number: 20221230-5073.

Comment Date: 5 p.m. ET 1/20/23.

Docket Numbers: ER23-755-000.

Applicants: PJM Interconnection, L.L.C.

Description: § 205(d) Rate Filing: Original NSA, Service Agreement No. 6723; Queue No. AC2-154/AD2-060 to be effective 5/9/2022.

Filed Date: 12/30/22.

Accession Number: 20221230-5082.

Comment Date: 5 p.m. ET 1/20/23.

Docket Numbers: ER23-756-000.

Applicants: New England Power Pool Participants Committee.

Description: § 205(d) Rate Filing: Jan 2023 Membership Filing to be effective 12/1/2022.

Filed Date: 12/30/22.

Accession Number: 20221230-5114.

Comment Date: 5 p.m. ET 1/20/23.

Docket Numbers: ER23-757-000.

Applicants: PJM Interconnection, L.L.C.

Description: § 205(d) Rate Filing: Amendment to Service Agreement No. 5422; Queue No. AC1-158 to be effective 6/14/2019.

Filed Date: 12/30/22.

Accession Number: 20221230-5126.

Comment Date: 5 p.m. ET 1/20/23.

Docket Numbers: ER23-758-000.

Applicants: Idaho Power Company.

Description: § 205(d) Rate Filing: SA 419 and SA 420—Revised PTP Transmission Service Agreements w/Powerex to be effective 4/1/2023.

Filed Date: 12/30/22.

Accession Number: 20221230-5188.

Comment Date: 5 p.m. ET 1/20/23.

The filings are accessible in the Commission's eLibrary system ( https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2022.
Debbie-Anne A. Reese,
Deputy Secretary.

[FR Doc. 2023-00020 Filed 1-5-23; 8:45 am]

BILLING CODE 6717-01-P